DEPARTMENT OF TRANSPORTATION

Surface Transportation Board

[STB Finance Docket No. 35116]

R.J. Corman Railroad Company/Pennsylvania Lines Inc.—Construction and Operation Exemption—in Clearfield County, PA

ACTION: Notice of Intent to Prepare an Environmental Impact Statement; Notice of Availability of the Draft Scope of Study for the Environmental Impact Statement; Notice of Scoping Meeting; and Request for Comments on Draft Scope.

SUMMARY: On May 20, 2008, R.J. Corman Railroad Company/Pennsylvania Lines Inc. (RJCP) filed a petition with the Surface Transportation Board (Board) pursuant to 49 U.S.C. 10502 for authority to construct and operate an abandoned 10.8-mile rail line between Wallaceton Junction and Winburne in Clearfield County, Pennsylvania (the Western Segment) and to rebuild the track on a connecting 9.3-mile line between Winburne and Gorton in Clearfield and Centre Counties, Pennsylvania (the Eastern Segment) that is currently being used for interim trail use, subject to the possible restoration of rail service (rail banking) pursuant to the Trails Act, 16 U.S.C. 1247(d). In total, the proposed project would involve the construction or rebuilding, and operation, of approximately 20 miles of the former Beech Creek Railroad to serve a new quarry, landfill, and industrial park being developed by Resource Recovery, LLC, near Gorton, Pennsylvania.

Because this project has the potential to result in significant environmental impacts, the Board's Section of Environmental Analysis (SEA) has determined that the preparation of an Environmental Impact Statement (EIS) is appropriate pursuant to the National Environmental Policy Act of 1969 (NEPA), as amended (42 U.S.C. 4321 et seq.). The purpose of this Notice of Intent is to notify individuals and agencies interested in or affected by the proposed project of the decision to prepare an EIS. SEA will hold a public scoping meeting as part of the NEPA process associated with the development of the EIS. Additionally, as part of the scoping process, SEA has developed a draft Scope of Study for the EIS for review and comment. The public meeting date and location, along with the draft Scope of Study, are provided below:

Date and Location: The public scoping meeting will be held: Tuesday, February 10, 2009, 6-8 p.m., Philipsburg-Osceola Area Senior High School, 502 Philips Street, Philipsburg, PA 16866-1899.

The public scoping meeting will be held in an informal open-house format during which interested persons may ask questions about the proposed project and the Board's environmental review process, and advise SEA staff about potential environmental effects of the project. No formal presentations will be made by agency representatives. SEA staff will be available to answer questions and receive comments individually.

Interested parties are invited to submit written comments on the draft Scope of Study, alternatives to the proposed rail line, and other environmental issues and concerns by February 24, 2009, to assure full consideration during the scoping process. SEA will issue a final Scope of Study after the close of the scoping comment period.

SUPPLEMENTARY INFORMATION: Background: Simultaneously with the filing of its petition for exemption (which seeks Board authority for both the rail banked Eastern Segment as well as the Western Segment of the proposed rail line), RJCP also filed a motion to dismiss the part of this proceeding that relates to the reactivation of the rail banked Eastern Segment. RJCP argues that reactivation of the rail banked Eastern Segment does not require Board approval under 49 U.S.C. 10901 (or an exemption under 49 U.S.C. 10502) and that therefore, the Board should not perform an environmental review of that segment of the proposed rail line. At this time, the Board has not decided whether reactivation of the Eastern Segment requires Board authority. Although the Board has not yet decided this issue, environmental review of the Eastern Segment is necessary to satisfy the NEPA requirements of one of the Board's cooperating agencies discussed below, and therefore SEA is now issuing this Notice of Intent.

Pursuant to 40 CFR 1501.5 and 1501.6, SEA may request agencies that have jurisdiction under other laws, or agencies that have “special expertise with respect to any environmental issue,” to participate as “cooperating agencies” in the Board's environmental review process. Cooperating agencies typically make their own decisions regarding a particular project and tend to adopt the environmental analysis prepared by another agency (known as the “lead” agency) as the basis for their decision. Where environmental review takes place with cooperating agencies, one environmental document therefore includes information necessary to fulfill the requirements of NEPA and related environmental laws for both the lead and cooperating agencies.

Based on preliminary agency consultations and field reconnaissance of the project area conducted by SEA and its third-party contractor (Skelly and Loy, Inc.), SEA believes that the proposed project could impact resources (i.e., wetlands and watercourses) that fall under the jurisdiction of the U.S. Army Corps of Engineers (Corps). Therefore, SEA has invited the Corps, and the Corps has agreed, to participate as a cooperating agency in the preparation of the EIS for this project. To assure that the Corps has the information it needs to meet all of its responsibilities under NEPA and the Clean Water Act, SEA will conduct an appropriate environmental review of the entire 20 miles of proposed rail line (i.e., both the Eastern and Western Segments), regardless of the Board's decision on RJCP's pending motion to dismiss.

Summary of the Board's Environmental Review Process: The NEPA process is intended to assist the Board and the public in identifying and assessing the potential environmental consequences of a proposed action before a decision on the proposed action is made. SEA is responsible for ensuring that the Board complies with NEPA and related environmental statutes. The first stage of the EIS process is scoping. Scoping is an open process for determining the scope of environmental issues to be addressed in the EIS. As part of the scoping process, SEA has developed, and has made available for public review and comment in this notice, a draft Scope of Study for the EIS. SEA will host a scoping meeting to provide further opportunities for public involvement and input during the scoping process. Interested parties are also encouraged to comment on any potential alternatives for the proposed project. SEA is currently considering four alternatives for the proposed project (construction and operation of the 20 miles of rail line along the former Beech Creek line, two non-rail transportation options for the no-build alternative, and the no-action alternative). At the conclusion of the scoping and comment period, SEA will issue a final Scope of Study for the EIS.

After issuing the final Scope of Study, SEA will prepare a Draft EIS for the project. The Draft EIS will address the environmental issues and concerns identified during the scoping process. It will also contain SEA's preliminary recommendations for environmental mitigation measures. The Draft EIS will be made available upon its completion for review and comment by the public, government agencies, and other interested parties. SEA will then prepare a Final EIS that considers comments on the Draft EIS, sets forth any additional analyses, and makes final recommendations to the Board on appropriate mitigation measures. In reaching its decision in this case, the Board will take into account the Draft EIS, the Final EIS, and all environmental comments that are received.

Filing Environmental Comments: Comments submitted by mail should be addressed to: Danielle Gosselin, Surface Transportation Board, 395 E Street, SW., Washington, DC 20423, Attention: Environmental Filing, STB Finance Docket No. 35116.

Comments may also be filed electronically on the Board's Web site, http://www.stb.dot.gov, by clicking on the “E-FILING” link.

Please refer to STB Finance Docket No. 35116 in all correspondence, including e-filings, addressed to the Board.

All comments must be post marked by February 24, 2009.

FOR FURTHER INFORMATION CONTACT: Danielle Gosselin, Section of Environmental Analysis, Surface Transportation Board, 395 E Street, SW., Washington, DC 20423. Assistance for the hearing impaired is available through the Federal Information Relay Service (FIRS) at 1-800-877-8339. The Web site for the Board is http://www.stb.dot.gov.

Draft Scope of Study for the EIS

Proposed Action and Alternatives

The Proposed Action is the construction and operation of an abandoned 10.8-mile rail line between Wallaceton Junction and Winburne and the reactivation of track on a connecting 9.3-miles of currently rail banked line between Winburne and Gorton. The approximately 20 miles of track would allow RJCP to provide rail service to a proposed new quarry, landfill, and industrial park being developed by Resource Recovery, LLC, near Gorton in Rush Township, Centre County, Pennsylvania. The anticipated train traffic would be two trains daily, with one train per day traveling in each direction. The EIS will also analyze the potential impacts of two non-rail transportation options for the no-build alternative and a no-action alternative set forth below.

The reasonable and feasible alternatives that will be evaluated in the EIS are: (1) Construction and operation of the proposed rail line along the former Beech Creek line, (2) no-build alternative option 1 involving the construction of a new interchange on Interstate 80, (3) no-build alternative option 2 involving improving the existing local road system (i.e., road paving, bridge replacement etc.), and (4) the no-action alternative.

Environmental Impact Analysis

Proposed New Construction or Rebuilding and Operation

Analysis in the EIS will address the proposed activities associated with the construction or rebuilding, and operation, of the proposed 20 miles of rail line and potential environmental impacts, as appropriate.

Impact Categories

The EIS will analyze the potential impacts associated with the proposed project on both the human and natural environment, or in the case of the no-action alternative, the lack of these impacts. Impact areas addressed will include the categories of transportation and safety, land use, energy resources, air quality, noise, biological resources including threatened and endangered species, water resources including wetlands and other jurisdictional waters of the U.S., socioeconomics as they relate to physical changes in the environment, recreation, environmental justice, geology and soils, and cultural/historic resources. Other categories of impacts may also be included as a result of comments received during the scoping process or the Draft EIS. The EIS will include a discussion of each of these categories as they currently exist in the project area and will address the potential impacts of each alternative on each category as described below.

1. Transportation and Safety

The EIS will:

a. Evaluate potential pedestrian and motor vehicle safety concerns at each public and private at-grade road crossing.

b. Include a level of service analysis focusing on average vehicle delay time for all grade crossings having an average daily traffic volume greater than 5,000 vehicles.

c. Include an assessment of the appropriate safety appurtenances to be erected at each crossing.

d. Assess the project's operational safety with respect to its close proximity to residential structures.

e. Evaluate the project's consistency with local and regional transportation planning goals.

f. Propose mitigative measures to minimize or eliminate potential impacts to safety, as appropriate.

2. Land Use

The EIS will:

a. Identify existing land uses that would be potentially impacted by the project.

b. Evaluate the project's consistency with local and regional land use planning goals.

c. Propose mitigative measures to minimize or eliminate potential impacts to land use, as appropriate.

3. Energy Resources

The EIS will:

a. Describe the effect of the project on energy resources, recyclable commodities, and overall changes in energy efficiency.

b. Propose mitigative measures to minimize or eliminate potential impacts to energy resources, as appropriate.

4. Air Quality

The EIS will:

a. Quantitatively evaluate rail operation air emissions, if the project would affect a Class I or non-attainment or maintenance area as designated under the Clean Air Act.

b. Qualitatively evaluate the temporary air quality impact resulting from rail line construction activities.

c. Propose mitigative measures to minimize or eliminate potential project impacts to air quality, as appropriate.

5. Noise

The EIS will:

a. Quantitatively evaluate rail operation noise impacts, including the use of any auditory warning devices at public road crossings.

b. Qualitatively evaluate the temporary noise impact resulting from rail line construction activities.

c. Propose mitigative measures to minimize or eliminate potential project impacts to sensitive noise receptors, as appropriate.

6. Biological Resources

The EIS will:

a. Evaluate the existing biological resources within the project area, including vegetative communities, terrestrial and aquatic habitats, and known wildlife species.

b. Evaluate project impacts to any Federal or state threatened and endangered plant or animal species.

c. Describe the proposed project's impact on any wildlife sanctuaries, refuges, national and state parks/forests, or state game lands.

d. Document all coordination conducted with those Federal and state agencies having jurisdiction over biological resources.

e. Propose mitigative measures to avoid, minimize or compensate for potential impacts to biological resources, as appropriate.

7. Water Resources

The EIS will:

a. Describe the existing surface water resources identified within the project area, including all jurisdictional wetlands and watercourses and their regulatory floodplains.

b. Evaluate project impacts to all jurisdictional surface water resources.

c. Document the necessary Federal and state water resource/encroachment permitting requirements that the proposed project will be subject to.

d. Propose mitigative measures to avoid, minimize or compensate for potential impacts to water resources, as appropriate.

8. Socioeconomics

The EIS will:

a. Summarize the existing local and regional socioeconomic conditions, including long-term population, housing and employment metrics.

b. Document the locations of existing community facilities and services identified within the regional project area.

c. Evaluate the proposed project's impact to socioeconomic conditions within the regional project area, including employment gains and losses.

d. Propose mitigative measures to avoid, minimize or compensate for potential impacts to regional socioeconomic factors, as appropriate.

9. Recreation

The EIS will:

a. Identify existing public and private recreational facilities within the project area, and evaluate the proposed project's impact to these recreational facilities.

b. Propose mitigative measures to avoid, minimize, or compensate for potential impacts to recreational facilities, as appropriate.

10. Environmental Justice

The EIS will:

a. Evaluate the potential project impacts on local and regional minority and low-income populations.

b. Propose mitigative measures to minimize or eliminate potential project impacts on environmental justice populations, as appropriate.

11. Geology and Soils

The EIS will:

a. Describe the geologic and soil conditions within the project area, including the status of past and present coal mining operations.

b. Evaluate potential measures to avoid or construct through active surface mined areas.

c. Propose mitigative measures to minimize or eliminate potential project impacts to geology and soils, as appropriate.

12. Cultural/Historic Resources

The EIS will:

a. Document all historic resource eligibility and effect studies conducted pursuant to Section 106 of the National Historic Preservation Act.

b. Document all project coordination with the state historic preservation officer.

c. Propose mitigative measures to minimize or eliminate potential project impacts to cultural/historic resources, as appropriate.

13. Cumulative and Indirect Impacts

The EIS will:

a. Address any identified potential cumulative impacts of the project, as appropriate. Cumulative impacts are the impacts on the environment which result from the incremental impact of the action when added to other past, present, and reasonably foreseeable future actions regardless of what agency (Federal or non-federal) or person undertakes such actions (for example, Resource Recovery, LLC's proposed new quarry, landfill and industrial park).

b. Address any identified potential indirect impacts of the project, as appropriate. Indirect impacts are impacts that are caused by the action and are later in time or farther removed in distance, but are still reasonably foreseeable.

Decided: January 2, 2009.
By the Board, Victoria Rutson, Chief, Section of Environmental Analysis.
Kulunie L. Cannon,
Clearance Clerk.

[FR Doc. E9-106 Filed 1-7-09; 8:45 am]

BILLING CODE 4915-01-P